DEPARTMENT OF TRANSPORTATION

Federal Railroad Administration

[Docket Number FRA-2020-0009]

Petition for Extension of Waiver of Compliance

Under part 211 of title 49 Code of Federal Regulations (CFR), this document provides the public notice that on October 24, 2024, the Metropolitan Council's Metro Transit Division (Metro Transit) petitioned the Federal Railroad Administration (FRA) for an extension of a waiver of compliance from certain provisions of the Federal railroad safety regulations contained at 49 CFR parts 219 (Control of Alcohol and Drug Use), 220 (Railroad Communications), and 234 (Grade Crossing Safety). The relevant Docket Number is FRA-2020-0009.

Specifically, Metro Transit seeks an extension of relief for its METRO Green Line Light Rail Transit Extension Project, which is partly adjacent to freight rail service operated by Twin Cities & Western Railroad (TCWR), with which it will share five highway-rail grade crossings. Metro Transit seeks extended relief from part 219 (excepting subpart C), as it has “adopted an alcohol and drug use policy (“FTA Safety Sensitive Drug and Alcohol Program”) that complies with applicable Federal Transit Administration regulations, meeting the requirements of part 655 (Prevention of Alcohol Misuse and Prohibited Drug Use in Transit Operations).

Further, Metro Transit seeks an extension of relief from the entirety of part 220, noting that transit operations “will be signaled and dispatched separately from the adjacent TCWR freight railroad” at the shared five crossings. Metro Transit states that it “recognizes the importance of maintaining clear, effective and prompt communications between Metro Transit and the freight operator, particularly related to planned maintenance of way activities and emergencies.”

Metro Transit also requests relief from § 234.105(c), Activation failure, which gives requirements for protection of grade crossings in case of a train warning system activation failure. Because transit trains are operated by single-person crews, the train operator cannot simultaneously flag a crossing and move the train through the crossing. Metro Transit provides two alternative safety procedures involving sounding the horn followed by moving at restricted speed and indication using a lunar aspect signal.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at www.regulations.gov. Follow the online instructions for submitting comments.

Communications received by February 25, 2025 will be considered by FRA before final action is taken. Comments received after that date will be considered if practicable.

Anyone can search the electronic form of any written communications and comments received into any of the U.S. Department of Transportation's (DOT) dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2024-31054 Filed 12-26-24; 8:45 am]

BILLING CODE 4910-06-P